DEPARTMENT OF JUSTICE

Office of Justice Programs

[OMB No. 1121-NEW]

Agency Information Collection Activities; Proposed Collection; Comment Request: Generic Clearance for Cognitive, Pilot and Field Studies for Bureau of Justice Statistics Data Collection Activities

ACTION: 30-day Notice.

The Department of Justice (DOJ), Office of Justice Programs, Bureau of Justice Statistics (BJS) will be submitting the following information collection request to the Office of Management and Budget (OMB) for review and approval in accordance with the Paperwork Reduction Act of 1995. The proposed information collection is published to obtain comments from the public and affected agencies. This proposed information collection was previously published in the Federal Register Volume 77, Number 179, page 56865 on September 14, 2012, allowing for a 60 day comment period.

The purpose of this notice is to allow for an additional 30 days for public comment until December 20, 2012. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: New collection.

(2) Title of the Form/Collection: BJS Generic Clearance for Cognitive, Pilot, and Field Test Studies.

(3) Agency form number, if any, and the applicable component of the department sponsoring the collection: For numbers not available for generic clearance, Bureau of Justice Statistics, Office of Justice Programs, Department of Justice.

(4) Affected public who will be asked or required to respond, as well as a brief abstract: Administrators or staff of state and local agencies or programs in the relevant fields; administrators or staff of non-government agencies or programs in the relevant fields; individuals; policymakers at various levels of government.

(5) An estimate of the total number of respondents and the amount of time estimated for an average respondent to respond/reply: We estimate that approximately 4,350 respondents will be involved in exploratory, field test, pilot, cognitive, and focus group work conducted under this clearance over the requested 3-year clearance period. The average response time per respondent will be specific to each project covered under the clearance. Specific estimates of the number of respondents and the average response time are not known for each pilot study or development project covered under a generic clearance at this time. Project specific estimates will be submitted to OMB separately for each project conducted under this clearance. An estimate of the overall number of burden hours for activities under this generic clearance is included in item 6 below.

(6) An estimate of the total public burden (in hours) associated with the collection: The total respondent burden for identified and future projects covered under this generic clearance over the 3-year clearance period is approximately 14,100 hours.

If additional information is required contact: Jerri Murray, Department Clearance Officer, United States Department of Justice, Justice Management Division, Policy and Planning Staff, United States Department of Justice, 145 N Street NE., Washington, DC 20530.

Dated: November 13, 2012.
Jerri Murray,
Department Clearance Officer for PRA, United States Department of Justice.

[FR Doc. 2012-28082 Filed 11-19-12; 8:45 am]

BILLING CODE 4410-18-P